DEPARTMENT OF ENERGY

Federal Energy Regulatory Commission

[Project No. 14726-000]

Pyramid Lake Paiute Tribe; Notice of Preliminary Permit Application Accepted for Filing and Soliciting Comments, Motions To Intervene, and Competing Applications

On November 3, 2015, the Pyramid Lake Paiute Tribe (Pyramid Lake) filed an application for a preliminary permit, pursuant to section 4(f) of the Federal Power Act, proposing to study the feasibility of the Prosser Creek Hydroelectric Project (project) to be located at the existing Bureau of Reclamation's Prosser Creek Dam on Prosser Creek, near the City of Truckee, Nevada County, California. The sole purpose of a preliminary permit, if issued, is to grant the permit holder priority to file a license application during the permit term. A preliminary permit does not authorize the permit holder to perform any land-disturbing activities or otherwise enter upon lands or waters owned by others without the owners' express permission.

Prosser Creek Reservoir has a usable storage capacity of 29,800 acre-feet at a normal maximum elevation of 5,741.2 feet, of which up to 20,000 acre-feet is required for flood control purposes between November and June annually. The proposed project would utilize the existing intake structure in Prosser Creek Reservoir, the two 9.5-foot arched concrete conduits, and the discharge channel on the downstream side of the BOR Prosser Creek Dam. No modifications would be made to these existing structures.

The proposed project would also consist of the following new structures: (1) An approximately 32-foot-wide by 62-foot-long by 33-foot-high powerhouse located on the east side of the primary discharge channel outlet containing two Francis generating units, one smaller 790-kilowatt unit and one larger 2.7-megawatt (MW) unit for a total rated capacity of 3.49 MW; (2) a pressure-rated, concrete, flow-control structure located at the end of the existing low-level outlet that would include control valves to regulate flows to the powerhouse or direct flows to the existing discharge channel during a powerhouse outage; (3) a 48-inch-diameter penstock that conveys water from the existing outlet structures to the powerhouse and directs flow to one or both of the generating units via a common header and control valves; (4) a 50-foot-long tailrace channel extending from the proposed powerhouse to meet the existing outlet channel; (5) a channel training wall leaving the powerhouse on the landside of the tailrace channel; (6) a 650-foot-long, 69-kilovolt (kV) transmission line and electrical substation to interconnect the proposed project to the existing, nearby 69-kV transmission line; (7) and a small parking area at the powerhouse.

Pyramid Lake proposes to develop the proposed project in conformance with the operation of Prosser Creek Dam by the Bureau of Reclamation under the terms of the Truckee River Operating Agreement (TROA) and would generate electricity using the existing flow releases under the terms of the TROA. Pyramid Lake does not propose to alter the timing, condition or the amount of releases from Prosser Creek Reservoir or impair any of the current functions supported by operation of this existing multi-purpose water resources project. The estimated annual generation of the Prosser Creek Hydroelectric Project would be 7.4 gigawatt-hours.

Applicant Contact: Donna Noel, Director of Natural Resources, Pyramid Lake Paiute Tribe, P.O. Box 256, Nixon, Nevada 89424; phone: (775) 574-1000.

FERC Contact: Quinn Emmering; phone: (202) 502-6382.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14726-000.

More information about this project, including a copy of the application, can be viewed or printed on the “eLibrary” link of Commission's Web site at http://www.ferc.gov/docs-filing/elibrary.asp. Enter the docket number (P-14726) in the docket number field to access the document. For assistance, contact FERC Online Support.

Dated: February 12, 2016.
Nathaniel J. Davis, Sr.,
Deputy Secretary.

[FR Doc. 2016-03615 Filed 2-22-16; 8:45 am]

BILLING CODE 6717-01-P